DEPARTMENT OF TRANSPORTATION

Federal Aviation Administration

14 CFR Part 39

[Docket No. FAA-2005-20796; Directorate Identifier 2004-NM-160-AD]

RIN 2120-AA64

Airworthiness Directives; Airbus Model A300 B2 and A300 B4 Series Airplanes; Model A300 B4-600, B4-600R and F4-600R Series Airplanes, and Model A300 C4-605R Variant F Airplanes (Collectively Called A300-600); and Model A310 Series Airplanes

AGENCY: Federal Aviation Administration (FAA), Department of Transportation (DOT).

ACTION: Notice of proposed rulemaking (NPRM).

SUMMARY: The FAA proposes to adopt a new airworthiness directive (AD) for all the Airbus models identified above. This proposed AD would require modifying the electrical power supply logic for the integral lighting of the standby horizon indicator in the cockpit; accomplishing repetitive operational tests of the integral lighting logic system, and corrective action if necessary. This proposed AD is prompted by a report of temporary loss of six cathode ray tube flight displays and the integral lighting of the standby horizon indicator in the cockpit during takeoff, due to failure of the normal electrical power circuit. We are proposing this AD to prevent loss of that integral lighting due to such failure, which could result in inability of the pilot to read the backup attitude information during takeoff, and possible deviation from the intended flight path.

DATES: We must receive comments on this proposed AD by May 4, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street, SW., room PL-401, on the plaza level of the Nassif Building, Washington, DC. This docket number is FAA-2005-20796; the directorate identifier for this docket is 2004-NM-160-AD.

FOR FURTHER INFORMATION CONTACT: Tim Backman, Aerospace Engineer, International Branch, ANM-116, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed under ADDRESSES. Include “Docket No. FAA-2005-20796; Directorate Identifier 2004-NM-160-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on all Airbus Model A300 B2 and A300 B4 series airplanes; Model A300 B4-600, B4-600R and F4-600R series airplanes, and Model A300 C4-605R Variant F airplanes (collectively called A300-600); and Model A310 series airplanes. The DGAC advises that, during takeoff on a Model A300 B2 series airplane, an operator reported the temporary loss of six cathode ray tube (CRT) flight displays and the integral lighting of the standby horizon indicator in the cockpit due to failure of the normal electrical power circuit. The temporary loss of the CRTs is still under investigation. Power for the integral lighting of the standby horizon indicator is supplied through the normal electrical power circuit. In the event of failure of the normal electrical power circuit, modifying the logic for the integral lighting of the standby horizon will allow automatic switching from the normal to the essential electrical power circuit. Loss of the integral lighting due to such failure could result in loss of the backup source of attitude data, consequent inability of the pilot to access attitude information during takeoff, and possible deviation from the intended flight path.

The integral lighting logic system on Model A300 B4 series airplanes; Model A300 B4-600, B4-600R and F4-600R series airplanes, and Model A300 C4-605R Variant F airplanes; and Model A310 series airplanes is identical to the integral lighting logic system on the affected Model A300 B2 series airplane. Therefore, those airplanes may be subject to the same unsafe condition identified on Model A300 B2 series airplanes.

Relevant Service Information

We have reviewed the following Airbus service bulletins:

Referenced Service Bulletins
For model— | Service bulletin/date—
A300 B2 and A300 B4 series airplanes | A300-31-0077, dated March 2, 2004 .
| A300-33-0126, dated April 5, 2004.
A300 B4-600, B4-600R and F4-600R series airplanes; A300 C4-605R Variant F airplanes | A300-31-6105, Revision 02, dated May 27, 2003.
| A300-33-6049, Revision 01, dated May 28, 2004.
A310 series airplanes | A310-31-2120, Revision 01, dated May 27, 2003.
| A310-33-2047, dated April 5, 2004.

Service Bulletins A300-31-0077, A300-31-6105, and A310-31-2120 describe procedures for modifying the electrical power supply for the standby horizon indicator.

Service Bulletins A300-33-0126, A300-33-6049, and A310-33-2047 describe procedures for accomplishing repetitive operational tests (inspections) of the integral lighting logic system. The service bulletins also recommend sending an inspection report to Airbus.

Accomplishing the actions specified in the service information is intended to adequately address the unsafe condition. The DGAC mandated the service information and issued French airworthiness directive F-2004-098, dated July 7, 2004, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept us informed of the situation described above. We have examined the DGACs findings, evaluated all pertinent information, and determined that we need to issue an AD for products of this type design that are certificated for operation in the United States.

Therefore, we are proposing this AD, which would require accomplishing the actions specified in the service information described previously, except as discussed under “Differences Between the Proposed AD and Service Information.”

Differences Between the Proposed AD and Service Information

Service Bulletins A300-33-0126, A300-33-6049, and A310-33-2047 recommend sending an inspection report to Airbus, but this proposed AD does not contain that requirement.

Service Bulletins A300-33-0126, A300-33-6049, and A310-33-2047 do not specify repair procedures for failure of the operational test, but this proposed AD would require you to repair those conditions using a method that we or the DGAC (or its delegated agent) approve. In light of the type of repair that would be required to address the unsafe condition, and consistent with existing bilateral airworthiness agreements, we have determined that, for this proposed AD, a repair we or the DGAC approve would be acceptable for compliance with this proposed AD.

Costs of Compliance

This proposed AD would affect about 189 airplanes of U.S. registry.

It would take between approximately 10 and 36 work hours per airplane to accomplish the proposed modification (depending on the number of kits needed), at an average labor rate of $65 per work hour. Required parts would cost approximately between $310 and $4,880 per airplane. Based on these figures, the estimated cost of the proposed modification is between $960 and $7,220 per airplane.

It would take about 1 work hour per airplane to accomplish the proposed operational test, at an average labor rate of $65 per work hour. Based on these figures, the estimated cost of the proposed test is $12,285, or $65 per airplane, per test cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD will not have federalism implications under Executive Order 13132. This proposed AD will not have a substantial direct effect on the States, on the relationship between the national government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-20796; Directorate Identifier 2004-NM-160-AD.

Comments Due Date

(a) The Federal Aviation Administration must receive comments on this AD action by May 4, 2005.

Affected ADs

(b) None.

Applicability

(c) This AD applies to all Airbus Model A300 B2 and A300 B4 series airplanes; Model A300 B4-600, A300 B4-600R, and A300 F4-600R series airplanes, and Model A300 C4-605R Variant F airplanes (collectively called A300-600); and Model A310 series airplanes; certificated in any category.

Unsafe Condition

(d) This AD was prompted by a report of temporary loss of six cathode ray tube flight displays and the integral lighting of the standby horizon indicator in the cockpit during takeoff, due to failure of the normal electrical power circuit. We are issuing this AD to prevent loss of that integral lighting due to such failure, which could result in inability of the pilot to read the backup attitude information during takeoff, and possible deviation from the intended flight path.

Compliance

(e) You are responsible for having the actions required by this AD performed within the compliance times specified, unless the actions have already been done.

Required Service Information

(f) Unless otherwise specified in this AD, the term “service bulletin,” as used in this AD, means the Accomplishment Instructions of the applicable service bulletin identified in Table 1 of this AD. Service Bulletins A300-33-0126, A300-33-6049, and A310-33-2047 specify to submit certain information to the manufacturer, but this AD does not include that requirement.

Table 1.—Service Bulletins
For Airbus models— | Use Airbus service bulletin(s)— | Revision— | Dated— | And, for actions done before the effective date of this AD, credit is given for prior accomplishing of—
A300 B2 and A300 B4 series | A300-31-0077 (Airbus Modification 12513) | Original | March 2, 2004 | N/A.
| A300-33-0126 | Original | April 5, 2004 | N/A.
A300 B4-600; A300 B4-600R and F4-600R series; and A300 C4-605R Variant F airplanes | A300-31-6105 (Airbus Modifications 12513 and 12730) | 02 | May 27, 2003 | None.
| A300-33-6049 | 01 | May 28, 2004 | Original, dated April 5, 2004.
A310 series | A310-31-2120 (Airbus Modification 12513) | 01 | May 27, 2003 | Original, dated November 19, 2002.
| A310-33-2047 | Original | April 5, 2004 | N/A.

Modification

(g) For airplanes on which Airbus Modifications 12513 and 12730 have not been accomplished: Within 12 months after the effective date of this AD, modify the electrical power supply logic of the integral lighting for the standby horizon indicator in the cockpit in accordance with the service bulletin.

Repetitive Operational Tests

(h) For all airplanes: Within 600 flight hours after accomplishing the modification required by paragraph (g) of this AD, or within 600 flight hours after the effective date of this AD, whichever is later, accomplish the operational test of the integral lighting logic system in accordance with the service bulletin. Repeat the test thereafter at intervals not to exceed 600 flight hours.

Corrective Action

(i) If any operational test required by paragraph (h) of this AD fails: Before further flight, accomplish any applicable repair per a method approved by either the Manager, International Branch, ANM-116, FAA, Transport Airplane Directorate; or the Direction Générale de l'Aviation Civile (or its delegated agent).

Alternative Methods of Compliance (AMOCs)

(j) The Manager, International Branch, ANM-116, has the authority to approve AMOCs for this AD, if requested in accordance with the procedures found in 14 CFR 39.19.

Related Information

(k) French airworthiness directive F-2004-098, dated July 7, 2004, also addresses the subject of this AD.

Issued in Renton, Washington, on March 23, 2005.
Ali Bahrami,
Manager, Transport Airplane Directorate, Aircraft Certification Service.

[FR Doc. 05-6578 Filed 4-1-05; 8:45 am]

BILLING CODE 4910-13-P